DEPARTMENT OF COMMERCE

National Oceanic and Atmospheric Administration

RIN 0648-XF620

Marine Mammals; File No. 21486

AGENCY: National Marine Fisheries Service (NMFS), National Oceanic and Atmospheric Administration (NOAA), Commerce.

ACTION: Notice; receipt of application.

SUMMARY: Notice is hereby given that the British Broadcasting Corporation (BBC) Worldwide Americas, Inc., on behalf of BBC Natural History Unit, 28 Whiteladies Rd, Bristol, UK, has applied in due form for a permit to conduct commercial or educational photography on Weddell Seals (Leptonychotes weddellii) in Antarctica.

DATES: Written, telefaxed, or email comments must be received on or before September 25, 2017.

ADDRESSES: These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Lisa Lierheimer or Sara Young, (301) 427-8401.

SUPPLEMENTARY INFORMATION: The subject permit is requested under the authority of the Marine Mammal Protection Act of 1972, as amended (MMPA; 16 U.S.C. 1361 et seq.), the regulations governing the taking and importing of marine mammals (50 CFR part 216).

The applicant proposes to film Weddell seals at various locations in McMurdo Sound, Antarctica, between October and December 2017. Up to 16 Weddell seals (8 mother pup-pairs from birth through weaning) could be targeted and disturbed during filming activities on the sea ice, underwater (scuba divers), and by air (drone). Up to 80 Weddell seals (non-targeted animals in the colony) could be incidentally disturbed during the filming activities. Footage would be used for the BBC television series “Seven Worlds,” to showcase Antarctica and will include a segment featuring Weddell seals. The permit would be valid through December 2017.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 18, 2017.
Julia Harrison,
Chief, Permits and Conservation Division, Office of Protected Resources, National Marine Fisheries Service.

[FR Doc. 2017-17932 Filed 8-23-17; 8:45 am]

BILLING CODE 3510-22-P